FEDERAL TRADE COMMISSION

Privacy Act of 1974; System of Records

AGENCY: Federal Trade Commission (FTC).

ACTION: Notice of modified system of records.

SUMMARY: The FTC is making technical revisions to several of the notices that it has published under the Privacy Act of 1974 to describe its systems of records. This action is intended to make these notices clearer, more accurate, and up-to-date.

DATES: These modified systems will be effective on September 25, 2025.

FOR FURTHER INFORMATION CONTACT: G. Richard Gold, Attorney, Office of the General Counsel, Federal Trade Commission, 600 Pennsylvania Avenue NW, Washington, DC 20580, (202) 326-3355 or rgold@ftc.gov.

SUPPLEMENTARY INFORMATION: To inform the public, the FTC publishes in the Federal Register and posts on its website a “system of records notice” (SORN) for each system of records that the FTC currently maintains within the meaning of the Privacy Act of 1974, as amended, 5 U.S.C. 552a (“Privacy Act” or “Act”). See https://www.ftc.gov/about-ftc/foia/foia-reading-rooms/privacy-act-systems. The Privacy Act protects records about individuals in systems of records collected and maintained by Federal agencies. (A system is not a “system of records” under the Act unless the agency maintains and retrieves records in the system by the relevant individual's name or other personally assigned identifier.) Each Federal agency, including the FTC, must publish a SORN that describes the records maintained in each of its Privacy Act systems, including the categories of individuals that the records in the system are about, where and how the agency maintains these records, and how individuals can find out whether an agency system contains any records about them or request access to their records, if any. The FTC, for example, maintains 39 systems of records under the Act. Some of these systems contain records about the FTC's own employees, such as personnel and payroll files. Other FTC systems contain records about members of the public, such as public comments, consumer complaints, or phone numbers submitted to the FTC's Do Not Call Registry.

The FTC's SORNs discussed in this notice apply only to the FTC's own Privacy Act record systems. They do not cover Privacy Act records that other Federal agencies may collect and maintain in their own systems. Likewise, the FTC's SORNs and the Privacy Act of 1974 do not cover personal records that private businesses or other non-FTC entities may collect, which may be covered by other privacy laws. Based on a periodic review of its SORNs, the FTC is publishing these additional technical revisions, to ensure that the FTC's SORNs and Appendices remain clear, accurate, and up-to-date:

• First, the FTC is amending several SORNs to clarify or update information about the applicable records disposition schedules published or approved by the National Archives and Records Administration (NARA). These schedules determine how long agency records in each system should be retained and destroyed.

• Second, the FTC is amending multiple SORNs to make other technical changes (e.g., updating the official title of the system manager, the authority for maintenance of the system, the policies and practices for storage and record retention of records, changing the words “Web site” to “website”, and capitalizing the words “Federal” and “State” as recommended by the GPO Style Manual).

• Third, the FTC is republishing the full text of each of the above SORNs, incorporating the technical amendments, for the convenience of the reader and in accordance with OMB Circular A-108, Federal Agency Responsibilities for Review, Reporting, and Publication under the Privacy Act (2016), which reorganized the format and content for SORNs published by Federal agencies.

The FTC is not substantively adding or amending any routine uses of its Privacy Act system records. Accordingly, the FTC is not required to provide prior public comment or notice to OMB or Congress for these technical amendments, which are final upon publication. See 5 U.S.C. 552a(e)(11) and 552a(r); OMB Circular A-108, supra.

A SORN-by-SORN summary, including a more detailed description of each SORN and how it is being amended, appears below, followed by the full text of the SORNs, as amended.

I. Law Enforcement Systems of Records

FTC-I-1 (Nonpublic Investigational and Other Nonpublic Legal Program Records-FTC). This SORN covers nonpublic investigational and other nonpublic program records. The Commission has updated the sections relating to the Security Classification, System Manager, Purpose of the System, Policies and Practices for Storage of Records, and Administrative, Technical, and Physical Safeguards. Additionally, the template and format are being updated in accordance with OMB Circular A-108.

FTC-I-2 (Disciplinary Action Investigatory Files—FTC). This SORN covers records compiled to determine whether the FTC should refer an individual practicing before the FTC to appropriate authorities for alleged ethical or other misconduct. This SORN is being renamed Outside Representative Disciplinary Action Investigatory Files to clarify that this system only covers outside representatives or attorneys practicing before the FTC. Investigations of current and former FTC employees are covered by FTC-II-8 (Employee Adverse Action and Disciplinary Records). The purpose section is being revised to reflect this distinction. The Commission has also updated the section relating to the Administrative, Technical, and Physical Safeguards.

FTC-I-8 (Stenographic Reporting Services Request System—FTC). This SORN covers the database system that the FTC uses to log and fulfill requests by FTC officials for stenographic services in FTC investigations, litigation and other FTC matters. The Commission has updated the sections relating to the Security Classification, System Manager, Policies and Practices for Storage of Records, Policies and Practices for Retention and Disposal of Records, and Administrative, Technical, and Physical Safeguards. Additionally, the template and format are being updated in accordance with OMB Circular A-108.

II. Personnel Systems of Records

FTC-II-8 (Employee Adverse Action and Disciplinary Records—FTC). This SORN covers employee adverse action and disciplinary files. Language has been added to the Purpose of the System clarifying that this system relates to current or former employees and excludes records that are part of FTC-I-2 (Outside Representative Disciplinary Action Investigatory Files). That system (FTC-I-2) includes records compiled to determine whether the FTC should refer an individual practicing before the FTC to appropriate authorities for alleged ethical or other misconduct. The FTC is also revising this SORN (FTC-II-8) to update the Policies and Practices for Storage of Records and the Administrative, Technical, and Physical Safeguards.

IV. Correspondence Systems of Records

FTC-IV-2 (Miscellaneous Office Correspondence Tracking System Records—FTC). This SORN covers miscellaneous non-consumer correspondence and matter tracking records held by various offices. The FTC is revising this SORN to update the Policies and Practices for Storage of Records and the Administrative, Technical, and Physical Safeguards. Additionally, the template and format are being updated in accordance with OMB Circular A-108.

V. Access Requests

FTC-V-1 (Freedom of Information Act Requests and Appeals—FTC). The FTC is revising this SORN to update the System Location, Categories of Records in the System and Administrative, Technical, and Physical Safeguards. The Commission is also clarifying that, as required by the FOIA statute, records that have been “frequently requested” or are otherwise also subject to proactive disclosure requirements and disclosed under the FOIA within the meaning of that Act, as determined by the FTC, are made available to the public for routine inspection and copying. Note that the Privacy Act never prohibits a disclosure that the FOIA requires. 5 U.S.C. 552a(b)(2).

FTC-V-2 (Privacy Act Requests and Appeals—FTC). The FTC is revising this SORN to update the System Location, Policies and Practices for Storage of Records, and Administrative, Technical, and Physical Safeguards.

VI. Mailing List Systems of Records

FTC-VI-1 (Mailing and Contact Lists-FTC). The FTC is revising this SORN to update the System Manager, Categories of Records in the System, Policies and Practices for Storage of Records and Administrative, Technical, and Physical Safeguards. Additionally, the template and format are being updated in accordance with OMB Circular A-108.

VII. Miscellaneous Systems of Records

FTC-VII-2 (Employee Locator (STAFFID) System)—FTC). This SORN is being updated to the template and format set out in OMB Circular A-108.

FTC Systems of Records Notices

In light of the updated SORN template set forth in the revised OMB Circular A-108, the FTC is reprinting the entire text of each amended SORN when necessary for the public's benefit, to read as follows:

I. Law Enforcement Systems of Records

* * * * *

SYSTEM NAME AND NUMBER:

Nonpublic Investigational and Other Nonpublic Legal Program Records-FTC (FTC-I-1).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Office of the Secretary, Records Management Division, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To conduct the law enforcement, rulemaking, and advisory responsibilities of the Federal Trade Commission; to make determinations based upon the results of those matters; to report results of investigations to other agencies and authorities for their use in evaluating their programs and imposition of criminal, civil, or administrative sanctions; to report the results of investigations to other agencies or other regulatory bodies for any action deemed appropriate; to make appropriate portions of the records of those matters available to the public (see FTC-I-6, Public Records-FTC); and to maintain records of Commission activities related to those matters, including to make such records available within the FTC for historical, legal research, investigational, and similar purposes (see FTC-VII-6, Document Management and Retrieval System-FTC).

CATEGORIES OF INDIVIDUALS COVERED BY THE SYSTEM:

This system consists of case or matter files and other nonpublic records created, collected and maintained by the FTC's Bureaus and other offices in the course of law enforcement investigations, administrative or court litigation, and other agency legal proceedings and matters (e.g., rulemakings, requests for formal advisory opinions). The system covers investigatory targets, witnesses, consumers, redress claimants, commenters, requesters, and other individuals whose information the FTC “retrieves” from these nonpublic records, as explained below. (Entities that are not “individuals,” such as businesses, sole proprietorships, or corporations, are not covered by this system.) Parties requesting informal advisory opinions are covered by FTC-I-3, Informal Advisory Opinion Request and Response Files-FTC.

CATEGORIES OF RECORDS IN THE SYSTEM:

Records maintained in this system include information about individuals such as name, address, employment status, age, date of birth, financial information, credit information, social security number and personal history. Records in this system are collected and generated during law enforcement investigations and litigation and may include: copies of subpoenas and other compulsory process issued during the investigation; documents and records (including copies) obtained during the investigation in response to subpoenas and other compulsory process, or otherwise provided to the Commission; affidavits and other statements from witnesses; transcripts of testimony taken in the investigation and accompanying exhibits; internal staff memoranda; interview notes, investigative notes, staff working papers, draft materials, and other documents and records relating to the investigation; correspondence; and internal status reports including matter initiation reports, progress reports, and closing reports. Records in this system may also include other investigatory information or data relating to any of the following: docketed and consent matters; redress distribution proceedings; rulemakings, workshops, and other public proceedings, including comments or other materials submitted in such proceedings; assurances of voluntary compliance; and advisory opinions. Other types of records covered by this system are set out in the Department of Treasury, Financial Management Service's Privacy Act system of records notice TREASURY/FMS.014, or any successor system notice for this system (visit http://www.ustreas.gov for more information).

This system is limited to files and records that are about an individual, and only when the file or record is pulled (“retrieved”) by the name of that individual or other personal identifier (e.g., number, symbol, fingerprint, etc.). As described below, records in this system may become public if they are subject to such disclosure under the FTC's Rules of Practice.

RECORD SOURCE CATEGORIES:

Individual respondent(s) or proposed respondent(s), defendant(s), company records, complainants, informants, witnesses, participants, FTC employees, commercial sources.

ROUTINE USES OF RECORDS MAINTAINED IN THE SYSTEM, INCLUDING CATEGORIES OF USERS AND THE PURPOSES OF SUCH USES:

Records in this system may be:

(1) Made available or referred to Federal, State, local or international government authorities for investigation, possible criminal prosecution, civil action, regulatory order, or other law enforcement purpose;

(2) Referred to outside experts or consultants when considered appropriate by FTC staff to assist in the conduct of agency matters;

(3) Used by Commission contractors with recordkeeping, managerial, and budgeting responsibilities for information management purposes; and

(4) Disclosed on the FTC's public record under the FTC's Rules of Practice. See FTC-I6, Public Records—FTC.

(5) Disclosed, to the extent that the records relate to a debt owed to the United States, through one or more of its departments and agencies; and/or States, territories and commonwealths of the United States, and the District of Columbia, for any other routine use set forth in the Government-wide system of records notice published for this system by the Department of Treasury, Financial Management System, see TREASURY/FMS.014, or any successor TREASURY/FMS system notice that may be published for this system (visit http://www.ustreas.gov for more information).

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC maintains these records in electronic and non-electronic formats and media. The FTC maintains these records using a combination of different databases and applications.

POLICIES AND PRACTICES FOR RETRIEVAL OF RECORDS:

Records are indexed by respondent's, participant's, or FTC staff member's name; company name; industry investigation title; and FTC matter number.

POLICIES AND PRACTICES FOR RETENTION AND DISPOSAL OF RECORDS:

Records from submitters in FTC investigations are destroyed or returned to the submitter, if so requested, at the conclusion of the matter, except for those received into the record of any proceeding and any other copies made for official use or that are required to be preserved for their historical or other value under applicable Federal records retention requirements. See 15 U.S.C. 57b-2(b)(5), 16 CFR 4.12. Retention periods for other system records depend on the type of record and the FTC proceeding or matter involved. Records are retained and disposed of under applicable schedules and procedures approved by the National Archives and Records Administration.

ADMINISTRATIVE, TECHNICAL, AND PHYSICAL SAFEGUARDS:

For records other than those made public, access is restricted to agency personnel or contractors whose responsibilities require access. Access to electronic records is controlled by “user ID” and password combination and/or other appropriate electronic access or network controls (e.g., firewalls). Paper records are maintained in lockable rooms or file cabinets. FTC buildings are guarded and monitored by security personnel, cameras, ID checks, and other physical security measures.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

EXEMPTIONS PROMULGATED FOR THE SYSTEM:

Copies of records contained in this system that have been placed on the FTC public record are available upon request or from the FTC's website, where applicable. See FTC-I-6, Public Records—FTC. However, pursuant to 5 U.S.C. 552a(k)(2), records in this system that are not on the public record are exempt from the requirements of subsections (c)(3), (d), (e)(1), (e)(4) (G), (H), (I), and (f) of 5 U.S.C. 552a, and the corresponding provisions of 16 CFR 4.13. See FTC Rules of Practice 4.13(m), 16 CFR 4.13(m).

HISTORY:

73 FR 33591-33634 (June 12, 2008).

SYSTEM NAME AND NUMBER:

Outside Representative Disciplinary Action Investigatory Files—FTC (FTC-I-2).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and 87 FR 57698 (Sept. 21, 2022).

SYSTEM MANAGER(S):

Principal Deputy General Counsel, Office of General Counsel, Federal Trade Commission, 600 Pennsylvania Avenue NW, Washington, DC 20580, email: SORNs@ftc.gov.

AUTHORITY FOR MAINTENANCE OF THE SYSTEM:

Federal Trade Commission Act, 15 U.S.C. 41 et seq.; Executive Order 10450.

PURPOSE(S) OF THE SYSTEM:

To conduct disciplinary action investigations of outside attorneys or representatives practicing before the FTC; to make determinations based upon the results of the investigations; to report results of investigations to other agencies and authorities for their use in evaluating their programs and imposition of criminal, civil, or administrative sanctions; to report the results of investigations to other agencies or other regulatory bodies for any action deemed appropriate; and to maintain records related to those matters. Investigations of current and former FTC employees are covered by FTC-II-8 (Employee Adverse Action and Disciplinary Records).

CATEGORIES OF INDIVIDUALS COVERED BY THE SYSTEM:

FTC personnel, counsel for parties in investigative or adjudicative proceedings, and others participating in FTC matters who may be subject to investigation for possible improper or unethical conduct.

CATEGORIES OF RECORDS IN THE SYSTEM:

Name, address, employment status, age, date of birth, financial information, credit information, personal history, and records collected and generated during the investigation, which may include correspondence relating to the investigation; internal staff memoranda; copies of subpoenas issued during the investigation, affidavits, statements from witnesses, transcripts of testimony taken in the investigation, and accompanying exhibits; documents, records or copies obtained during the investigation; interview notes, investigative notes, staff working papers, draft materials, and other documents and records relating to the investigation; opening reports, progress reports, and closing reports; and other investigatory information or data relating to alleged violations.

RECORD SOURCE CATEGORIES:

Individual on whom the record is maintained, complainants, informants, witnesses, and Commission personnel having knowledge or providing analysis of matter.

ROUTINE USES OF RECORDS MAINTAINED IN THE SYSTEM, INCLUDING CATEGORIES OF USERS AND THE PURPOSES OF SUCH USES:

Records in this system:

(1) May be used to determine whether disciplinary action, including suspension or disbarment from practice before the Commission, is warranted;

(2) May be transferred to the Office of Personnel Management, to a court, or a bar association; and

(3) May be used by personnel of other agencies, courts, or bar associations to whom the matter is referred.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS

The FTC generally maintains these records in electronic or paper format.

POLICIES AND PRACTICES FOR RETRIEVAL OF RECORDS:

Records are indexed by individual's name, company name, industry investigation title, file or docket number.

POLICIES AND PRACTICES FOR RETENTION AND DISPOSAL OF RECORDS:

Records are retained and disposed of under applicable schedules and procedures approved by the National Archives and Records Administration.

ADMINISTRATIVE, TECHNICAL, AND PHYSICAL SAFEGUARDS:

Access is restricted to agency personnel or contractors whose responsibilities require access. Access to electronic records is controlled by “user ID” and password combination and/or other appropriate electronic access or network controls (e.g., firewalls). Paper records are maintained in lockable rooms or file cabinets. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

Pursuant to 5 U.S.C. 552a(k)(2), records in this system are exempt from the requirements of subsections (c)(3), (d), (e)(1), (e)(4) (G), (H), (I), and (f) of 5 U.S.C. 552a. See § 4.13(m) of the FTC Rules of Practice, 16 CFR 4.13(m).

HISTORY:

87 FR 964-974 (January 7, 2022).

73 FR 33591-33634 (June 12, 2008).

* * * * *

SYSTEM NAME AND NUMBER:

Stenographic Reporting Services Request System—FTC (FTC-I-8).

SECURITY CLASSIFICATION:

Unclassified.

SYSTEM LOCATION:

Federal Trade Commission, 600 Pennsylvania Avenue NW, Washington, DC 20580.

For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Office of the Secretary, Records Management Division, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To track and fulfill FTC staff requests for stenographic services from the agency's stenographic reporting service contractors; to schedule services with such contractors; to provide information necessary for the contractor to render such services; and for other internal administrative purposes, including to ensure that stenographic services are being properly allocated and authorized, to provide statistical data on service usage for agency managerial and budget purposes, and as source for transcript dates and times for incorporation as appropriate into FTC-I-5 (Matter Management System—FTC) and FTC-VII-6 (Document Management and Retrieval System—FTC).

CATEGORIES OF INDIVIDUALS COVERED BY THE SYSTEM:

FTC staff who have requested stenographic reporting services for depositions, testimony or other transcriptions in FTC proceedings; other FTC staff or contractors involved in processing the request or providing such services; witnesses or other individuals who are deposed or provide testimony at hearings or proceedings in which stenographic reporting services are used. (Businesses, sole proprietorships, or corporations are not covered by this system.)

CATEGORIES OF RECORDS IN THE SYSTEM:

Name, phone number, mail drop, and FTC organization of the individual requesting stenographic reporting services and other information about the service request, including but not limited to: request number, request status, request submitted date, funding organization name and number, matter name, number and organization, activity code name and number, lead attorney name and number, contract and delivery order number and name, deponent name, witness language, due dates, service date and time, duration time of service, name and number of individuals eligible to purchase the transcripts, name and address of location where deposition will be taken including home addresses when applicable, type of recording device that contains the material to be transcribed, type of formatting required for draft and final copies; recording details such as number of recordings, total minutes, digital file size, total number of tapes/CDs/DVDs; original language of media, specific types of audio and video and the name, address and phone number of anybody other than the requester that is receiving a copy of the transcript.

RECORD SOURCE CATEGORIES:

Individual on whom the record is maintained and Commission staff associated with the matter.

ROUTINE USES OF RECORDS MAINTAINED IN THE SYSTEM, INCLUDING CATEGORIES OF USERS AND THE PURPOSES OF SUCH USES:

Records in this system may be:

(1) Disclosed to and used by FTC contractors for purposes of scheduling and providing FTC staff with stenographic reporting services for depositions and hearings; and

(2) Made part of public record proceedings, to the extent appropriate and necessary to identify the individual being deposed or providing testimony in a hearing, when the hearing is a matter of public record. See FTC-I-6, Public Records—FTC.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Service requests are submitted electronic format, and data are entered and maintained electronically in a structured database on an internal agency server, and as needed on CD-ROM and/or external hard drives.

POLICIES AND PRACTICES FOR RETRIEVAL OF RECORDS:

Data in the system may be retrieved electronically by the name of the individual being deposed or providing testimony, the individual requesting stenographic services, the managing attorney, the fund manager name, the request number, the matter number, the delivery order number, the contract number, or by other data entered into and searchable in the system.

POLICIES AND PRACTICES FOR RETENTION AND DISPOSAL OF RECORDS:

Records are retained and disposed of in accordance with schedules and procedures issued or approved by the National Archives and Records Administration.

ADMINISTRATIVE, TECHNICAL, AND PHYSICAL SAFEGUARDS:

For records other than those made public, access is restricted to agency personnel or contractors whose responsibilities require access. Access to electronic records is controlled by “user ID” and password combination and/or other appropriate electronic access or network controls (e.g., firewalls). Paper records are maintained in lockable rooms or file cabinets. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

Copies of records contained in this system that have been placed on the FTC public record are available upon request or from the FTC's website, where applicable. See FTC-I-6, Public Records—FTC. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

HISTORY:

73 FR 33591-33634 (June 12, 2008).

* * * * *

SYSTEM NAME AND NUMBER:

Employee Adverse Action and Disciplinary Records—FTC (FTC-II-8).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Chief Human Capital Officer, Human Capital Management Office, Federal Trade Commission, 600 Pennsylvania Avenue NW, Washington, DC 20580.

AUTHORITY FOR MAINTENANCE OF THE SYSTEM:

5 U.S.C. 4301 et seq.; 5 U.S.C. 4311 et seq.; 5 U.S.C. 7101 et seq.; 5 U.S.C. 7501 et seq.; 5 U.S.C. 7511 et seq.; 5 U.S.C. 7541 et seq.; and 5 CFR parts 293, 315, 432, and 752.

PURPOSE(S) OF THE SYSTEM:

To document proposed and final agency decisions on disciplinary actions, adverse actions, and performance-based actions relating to current or former employees in order for them to be defensible before third-party review. This system excludes records that are part of FTC-I-2 (Outside Representative Disciplinary Action Investigatory Files), which includes records compiled to determine whether the FTC should refer an individual practicing before the FTC to appropriate authorities for alleged ethical or other misconduct.

CATEGORIES OF INDIVIDUALS COVERED BY THE SYSTEM:

Current or former FTC employees who have been disciplined or had a performance- based action taken against them, or who have a proposed disciplinary or performance-based action against them.

CATEGORIES OF RECORDS IN THE SYSTEM:

Case files and records related to adverse actions and performance-based actions (removal, suspension, reduction-in- grade) against employees. The file can include a copy of the proposed adverse action with supporting documents, statements of witnesses, employee's reply, hearing notices, reports, agency decisions, reversal of action, and appeal records. Other types of records are set out in the Office of Personnel Management (OPM) Privacy Act system of records notice applicable to this system, OPM/GOVT-3 (Records of Adverse Actions, Performance Based Reduction in Grade and Removal Actions, and Termination of Probationers), or any successor system notice for this system.

RECORD SOURCE CATEGORIES:

Individual about whom the records pertain, witnesses, supervisors, program managers, counselors, related correspondence from organizations or persons.

ROUTINE USES OF RECORDS MAINTAINED IN THE SYSTEM, INCLUDING CATEGORIES OF USERS AND THE PURPOSES OF SUCH USES:

Records in this system may be disclosed for any of the routine uses set forth in OPM/GOVT-3. In addition, records in this system:

(1) Including records of disciplinary actions, adverse actions and performance-based actions, may be disclosed to and used by employee relations specialists or others whose official duties require such information;

(2) Including records of official time used and travel and per diem money spent while attending to union business, may be disclosed to and used by labor relations specialists and others whose official duties require such information. Information in system records may also be disclosed to officials of labor organizations recognized under 5 U.S.C. 7101 et seq. when relevant and necessary to their duties as exclusive representative; and

(3) May be disclosed to the Federal Labor Relations Authority (including its General Counsel) when requested in connection with investigation and resolution of allegations of unfair labor practices, in connection with the resolution of exceptions to arbitrator's awards where a question of material fact is raised and matters before the Federal Service Impasses Panel.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC generally maintains these records in electronic or paper format.

POLICIES AND PRACTICES FOR RETRIEVAL OF RECORDS:

Indexed by individual's name.

POLICIES AND PRACTICES FOR RETENTION AND DISPOSAL OF RECORDS:

Records related to adverse actions, performance-based reduction- in-grade and removal actions, and termination of probationers are destroyed seven years after case is closed in accordance with General Records Schedule 2.3, items 60-62, issued by the National Archives and Records Administration. Actions related to labor management relations arbitration are destroyed 5 years after final resolution in accordance with General Records Schedule 2.3, item 52.

ADMINISTRATIVE, TECHNICAL, AND PHYSICAL SAFEGUARDS:

Access is restricted to agency personnel or contractors whose responsibilities require access. Access to any electronic records is controlled by “user ID” and password combination and/or other appropriate access or network controls (e.g., firewalls). Paper records are maintained in lockable rooms or file cabinets. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

80 FR 9460-9465 (February 23, 2015).

73 FR 33591-33634 (June 12, 2008).

* * * * *

IV. Correspondence Systems of Records

* * * * *

SYSTEM NAME AND NUMBER:

Miscellaneous Office Correspondence Tracking System—FTC (FTC-IV-2).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Office of the Secretary, Records Management Division, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

For the Office of the Secretary and certain other offices within the Commission to log and track the receipt, processing, and response, referral, or other action taken by those offices on correspondence, assignments or other agency matters for which those offices are responsible in whole or part; to help manage workloads, anticipate resources needed, and ensure that a response or other necessary or appropriate action is taken by those offices in a timely and complete manner; and to maintain records of the offices' responses or other actions taken on correspondence, assignments or other matters. (This system encompasses matter tracking records similar to, but maintained and managed separately from, those in FTC-I-5, Matter Management System—FTC.)

CATEGORIES OF INDIVIDUALS COVERED BY THE SYSTEM:

Individuals who correspond with individual FTC offices (e.g., members of Congress, counsel for regulated entities, consumers); FTC staff assigned to or responsible for supervising, responding or taking other action on correspondence, assignments, or other matters that may also be tracked in the system.

CATEGORIES OF RECORDS IN THE SYSTEM:

Name; matter name, number and/or description of the correspondence, assignment, or other matter; date of receipt or assignment, date of response, action, or other relevant dates; FTC organization and other internal administrative codes.

RECORD SOURCE CATEGORIES:

FTC staff; incoming and outgoing correspondence; internal memoranda or other FTC documents.

ROUTINE USES OF RECORDS MAINTAINED IN THE SYSTEM, INCLUDING CATEGORIES OF USERS AND THE PURPOSES OF SUCH USES:

When correspondence is referred to the FTC by a member of Congress, official committee or subcommittee, or other Government entity or official, the FTC may disclose to such official or authorized staff of such entity or official the status of the FTC's handling and processing of such correspondence.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS:

The FTC maintains these records in electronic and non-electronic formats and media.

POLICIES AND PRACTICES FOR RETRIEVAL OF RECORDS:

Name of corresponding or referring individual, and/or of FTC staff with responsibility for supervising, processing, responding or otherwise handling the correspondence or other matter. System records may also be retrieved by other system search fields or parameters not pertaining to an individual (e.g., matter or tracking number, date, FTC organization code).

POLICIES AND PRACTICES FOR RETENTION AND DISPOSAL OF RECORDS:

Records are retained and disposed of under applicable schedules and procedures approved by the National Archives and Records Administration.

ADMINISTRATIVE, TECHNICAL, AND PHYSICAL SAFEGUARDS:

Access is restricted to agency personnel or contractors whose responsibilities require access. Access to electronic records is controlled by “user ID” and password combination and/or other network access or security controls (e.g., firewalls). Paper records are maintained in lockable rooms or file cabinets. FTC buildings are guarded and monitored by security personnel, cameras, ID checks, and other physical security measures.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

73 FR 33591-33634 (June 12, 2008).

* * * * *

V. Access Requests

SYSTEM NAME AND NUMBER:

Freedom of Information Act Requests and Appeals—FTC (FTC-V-1).

SECURITY CLASSIFICATION:

Unclassified.

SYSTEM LOCATION:

Federal Trade Commission, 600 Pennsylvania Avenue NW, Washington, DC 20580. The records are maintained off-site on a web-based/cloud-based application by an FTC vendor. For other locations where records may be maintained or accessed, see Appendix III (Locations of FTC Buildings and Regional Offices), available on the FTC's website at https://www.ftc.gov/about-ftc/foia/foiareading-rooms/privacy-act-systems and 87 FR 57698 (Sept. 21, 2022).

SYSTEM MANAGER(S):

FOIA/PA Supervisor, Office of General Counsel, Federal Trade Commission, 600 Pennsylvania Avenue NW, Washington, DC 20580, email: SORNs@ftc.gov.

AUTHORITY FOR MAINTENANCE OF THE SYSTEM:

Federal Trade Commission Act, 15 U.S.C. 41 et seq.; Freedom of Information Act, 5 U.S.C. 552.

PURPOSE(S) OF THE SYSTEM:

To consider requests and appeals for access to records under the Freedom of Information Act; to determine the status of requested records; to respond to the requests and appeals; to make copies of FOIA requests and frequently requested records available publicly, under the FTC's Rules of Practice and FOIA; to maintain records, documenting the consideration and disposition of the requests for reporting, analysis, and recordkeeping purposes.

CATEGORIES OF INDIVIDUALS COVERED BY THE SYSTEM:

Individuals filing requests for access to information under the Freedom of Information Act (FOIA); individuals named in the FOIA request; FTC staff assigned to help process, consider, and respond to such requests, including any appeals.

CATEGORIES OF RECORDS IN THE SYSTEM:

Communications (e.g., letters, emails) to and from the requesting party, including requests submitted through the FTC's FOIA application and the national FOIA portal at foia.gov; agency documents generated or collected during processing and consideration of the request, including scanned copies of materials responsive to the FOIA request.

RECORD SOURCE CATEGORIES:

Individual about whom the record is maintained and agency staff assigned to help process, review, or respond to the access request, including any appeal.

ROUTINE USES OF RECORDS MAINTAINED IN THE SYSTEM, INCLUDING CATEGORIES OF USERS AND THE PURPOSES OF SUCH USES:

(1) Request and appeal letters, and agency letters responding thereto, are placed on the FTC's public record and available to the public for routine inspection and copying. See FTC-I-6 (Public Records—FTC).

(2) As required by the FOIA, records that have been “frequently requested” or are subject to other proactive disclosure requirements and disclosed under the FOIA within the meaning of that Act, as determined by the FTC, are made available to the public for routine inspection and copying. See FTC-I-6 (Public Records—FTC).

(3) Disclosure to the National Archives and Records Administration, Office of Government Information Services (OGIS), to the extent necessary to fulfill its responsibilities in 5 U.S.C. 552(h), to review administrative agency policies, procedures, and compliance with the Freedom of Information Act (FOIA), and to facilitate OGIS's offering of mediation services to resolve disputes between persons making FOIA requests and administrative agencies.

For other ways that the Privacy Act permits the FTC to use or disclose system records outside the agency, see Appendix I (Authorized Disclosures and Routine Uses Applicable to All FTC Privacy Act Systems of Records), available on the FTC's website at https://www.ftc.gov/about-ftc/foia/foiareading-rooms/privacy-act-systems and at 73 FR 33592, 36333-36334 (June 12, 2008).

POLICIES AND PRACTICES FOR STORAGE OF RECORDS:

Records are maintained electronically using a commercial software application accessible via the internet and provided by an FTC vendor. Additional records may be maintained in electronic forms on agency servers or in hard copies stored on the agency's premises.

POLICIES AND PRACTICES FOR RETRIEVAL OF RECORDS:

Indexed by name of requesting party and subject matter of request. Records can also be searched by name, address, phone number, fax number, and email of the requesting party, subject matter of the request, requestor organization, FOIA number, and staff member assigned to the request.

POLICIES AND PRACTICES FOR RETENTION AND DISPOSAL OF RECORDS:

Records are retained and disposed of in accordance with General Records Schedule 4.2, issued by the National Archives and Records Administration.

ADMINISTRATIVE, TECHNICAL, AND PHYSICAL SAFEGUARDS:

Requests, appeals, and responses available to the public, as described above. Access to nonpublic system records is restricted to FTC personnel or contractors whose responsibilities require access. Access to electronic records is controlled by “user ID” and password combination and other electronic access or network controls (e.g., firewalls). Nonpublic paper records are temporary, maintained in lockable file cabinets or offices, and destroyed once the request is complete. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-readingrooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-readingrooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-readingrooms/privacy-act-systems and at 73 FR 33592, 33634 (June 12, 2008).

EXEMPTIONS PROMULGATED FOR THE SYSTEM:

Records contained in this system that have been placed on the FTC public record are available upon request, as discussed above. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

HISTORY:

82 FR 27483-27485 (June 15, 2017).

82 FR 10012-10014 (February 9, 2017).

73 FR 33592-33634 (June 12, 2008).

SYSTEM NAME AND NUMBER:

Privacy Act Requests and Appeals—FTC (FTC-V-2).

SECURITY CLASSIFICATION:

Unclassified.

SYSTEM LOCATION:

Federal Trade Commission, 600 Pennsylvania Avenue NW, Washington, DC 20580. The records are maintained off-site on a web-based/cloud-based application by our vendor. For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Freedom of Information Act/Privacy Act Supervisor, Office of the General Counsel, Federal Trade Commission, 600 Pennsylvania Avenue NW, Washington, DC 20580, email: SORNs@ftc.gov.

AUTHORITY FOR MAINTENANCE OF THE SYSTEM:

Federal Trade Commission Act, 15 U.S.C. 41 et seq.; Privacy Act, 5 U.S.C. 552a.

PURPOSE(S) OF THE SYSTEM:

To process and review requests and appeals for access to, correction of, or an accounting of disclosure of records under the Privacy Act; to determine the status of requested records or the request for correction or disclosure; to respond to such requests and appeals; and to maintain records documenting the consideration and disposition of these requests for reporting, analysis, and recordkeeping purposes.

CATEGORIES OF INDIVIDUALS COVERED BY THE SYSTEM:

Individuals filing requests for access to, correction of, or an accounting of disclosures of personal information contained in system of records maintained by the Commission, pursuant to the Privacy Act; FTC staff assigned to help process, consider, and respond to such requests, including any appeals.

CATEGORIES OF RECORDS IN THE SYSTEM:

Requests and other communications and documents generated or compiled by the FTC to process, review, and respond to the Privacy Act request, including any appeals.

RECORD SOURCE CATEGORIES:

Individual about whom record is maintained and agency staff assigned to help process, review or respond to the request, including any appeal.

ROUTINE USES OF RECORDS MAINTAINED IN THE SYSTEM, INCLUDING CATEGORIES OF USERS AND THE PURPOSES OF SUCH USES:

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 73 FR 33592, 36333-36334 (June 12, 2008).

POLICIES AND PRACTICES FOR STORAGE OF RECORDS:

Records are maintained electronically using a commercial software application accessible via the internet and provided by an FTC vendor. Additional records may be maintained in electronic forms on agency servers or in hard copies stored on the agency's premises.

POLICIES AND PRACTICES FOR RETRIEVAL OF RECORDS:

Indexed by name of requesting party. Records can also be searched by address, phone number, fax number, and email of the requesting party, subject matter of the request, requestor organization, FOIA number, and staff member assigned to request.

POLICIES AND PRACTICES FOR RETENTION AND DISPOSAL OF RECORDS:

Records are retained and disposed of in accordance with General Records Schedule 4.2, issued by the National Archives and Records Administration.

ADMINISTRATIVE, TECHNICAL, AND PHYSICAL SAFEGUARDS:

Access to nonpublic system records is restricted to FTC personnel or contractors whose responsibilities require access. Access to electronic records is controlled by “user ID” and passphrase combination and other electronic access or network controls (e.g., firewalls). Nonpublic paper records are temporary, maintained in lockable file cabinets or offices, and destroyed once the request is complete. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

Pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

HISTORY:

82 FR 50871-50882 (November 2, 2017).

73 FR 33591-33634 (June 12, 2008).

* * * * *

VII. Mailing List Systems of Records

SYSTEM NAME AND NUMBER:

Mailing and Contact Lists—FTC (FTC-VI-1).

SECURITY CLASSIFICATION:

Unclassified.

SYSTEM LOCATION:

Federal Trade Commission, 600 Pennsylvania Avenue NW, Washington, DC 20580.

For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Associate Director, Division of Consumer and Business Education, Federal Trade Commission, 600 Pennsylvania Avenue NW, Washington, DC, 20580.

Director, Office of Public Affairs, Federal Trade Commission, 600 Pennsylvania Avenue NW, Washington, DC, 20580.

For all other FTC offices: Office of Secretary, Records Management Division, Federal Trade Commission, 600 Pennsylvania Avenue NW, Washington, DC 20580. Email: SORNs@ftc.gov.

AUTHORITY FOR MAINTENANCE OF THE SYSTEM:

Federal Trade Commission Act, 15 U.S.C. 41 et seq.

PURPOSE(S) OF THE SYSTEM:

To assist the Commission in the distribution of documents and information to individuals who request such materials; to maintain lists of media, Congressional, business, or other contacts for future reference.

CATEGORIES OF INDIVIDUALS COVERED BY THE SYSTEM:

Individuals who have indicated an interest in receiving FTC materials or who are participants or contacts in matters under consideration at the FTC; other individuals who may be regular resources, contacts, or leads for various FTC subject matter areas or programs.

CATEGORIES OF RECORDS IN THE SYSTEM:

System records contain some or all of the following: name; title; company or organization; mailing address; email address; telephone number; date. This system includes bulk order mailing lists, sign-in sheets, rosters or event registration form submissions compiled at meetings and workshops held at or by the FTC, contact lists developed from publicly available information or information provided by the relevant individual (e.g., business cards, email subscriptions), or other similar, miscellaneous contact and address lists.

This system excludes mailing or contact lists or similar records collected or maintained under other FTC systems of records. For example, addresses or other contact information for individuals who make requests through the FTC's Consumer Response Center to be mailed FTC materials are covered by FTC-IV-1 (Consumer Information System—FTC). Mailing lists prepared for serving official documents in Commission proceedings or for other law enforcement purposes (e.g., administering consumer redress) are covered by FTC-I-1 (Nonpublic Investigatory and Other Nonpublic Legal Program Records—FTC).

RECORD SOURCE CATEGORIES:

Individuals requesting FTC information, commercial directories or other public sources, attendees at FTC meetings or other events, and staff members involved in Commission proceedings.

ROUTINE USES OF RECORDS MAINTAINED IN THE SYSTEM, INCLUDING CATEGORIES OF USERS AND THE PURPOSES OF SUCH USES:

Records in this system may be compiled by or disclosed to FTC contractors in fulfilling requests for FTC materials or sending other FTC communications to individuals covered by this system.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC maintains system records in various electronic and non-electronic formats and media.

POLICIES AND PRACTICES FOR RETRIEVAL OF RECORDS:

Indexed by individual's name. When records are stored electronically, records may also be searched and retrieved by other data, such as by phone number, address, ZIP or area code, etc.

POLICIES AND PRACTICES FOR RETENTION AND DISPOSAL OF RECORDS:

Records are retained until the individual requests deletion from the agency's list, or when distribution of records from the associated matter is not anticipated, or as otherwise prescribed under record schedules and procedures issued or approved by the National Archives and Records Administration.

ADMINISTRATIVE, TECHNICAL, AND PHYSICAL SAFEGUARDS:

Access is restricted to FTC personnel or contractors whose responsibilities require access. Access to electronic records is controlled by “user ID” and password combination and/or other electronic access or network controls (e.g., firewalls). Paper records are maintained in lockable offices or file cabinets. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

73 FR 33591-33634 (June 12, 2008).

* * * * *

SYSTEM NAME AND NUMBER:

Employee Locator (STAFFID)-FTC (FTC-VII-2).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 87 FR 57698 (Sept. 21, 2022).

SYSTEM MANAGER(S):

Assistant Director for Infrastructure Operations, Office of the Chief Information Officer, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To maintain records that will assist in locating and communicating with FTC employees, contractors, etc.; to identify mail locator listings used by mail room personnel; and to identify, in other Commission automated information systems, Commission staff names and locations; to help document the check-in/check-out process for employees or others entering or leaving FTC service. This system is a core data source for other FTC automated systems to draw basic identifying information about FTC employees and others working for or at the Commission.

CATEGORIES OF INDIVIDUALS COVERED BY THE SYSTEM:

FTC employees, contractors, volunteers, or others (e.g., students) working for or at the FTC.

CATEGORIES OF RECORDS IN THE SYSTEM:

Name, employee identification number, building code, office room number, office telephone, mail drop code, electronic mail user identification, default printer designation, other identification codes or data.

RECORD SOURCE CATEGORIES:

Individual about whom the record is maintained; administrative officers or other staff who manage the staff check-in/check-out process; personnel records.

ROUTINE USES OF RECORDS MAINTAINED IN THE SYSTEM, INCLUDING CATEGORIES OF USERS AND THE PURPOSES OF SUCH USES:

(1) To produce the FTC Directory which is used by all agency personnel and made available to the public; and

(2) To provide employee locator information to the public.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

FTC Directory printed and distributed to staff and the public, and posted on the agency's website. System is maintained electronically in a structured database on agency network servers.

POLICIES AND PRACTICES FOR RETRIEVAL OF RECORDS:

Indexed by individual's name, employee identification number, and database can also be searched by other data fields or codes.

POLICIES AND PRACTICES FOR RETENTION AND DISPOSAL OF RECORDS:

Records are retained and disposed of under applicable schedules and procedures approved by the National Archives and Records Administration.

ADMINISTRATIVE, TECHNICAL, AND PHYSICAL SAFEGUARDS:

Certain information is available to the public through locator information and posting of the FTC Directory online. Access to other information is restricted to agency personnel or contractors whose responsibilities require access. Access to nonpublic electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

73 FR 33591-33634 (Jun 12, 2008).

* * * * *

April J. Tabor,
Secretary.

[FR Doc. 2025-18547 Filed 9-24-25; 8:45 am]

BILLING CODE 6750-01-P